DEPARTMENT OF JUSTICE

Office of Justice Programs

28 CFR Part 94

[Docket No.: OJP (OVC) 1808]

RIN 1121-AA89

Subject: Victims of Crime Act (VOCA) Victim Compensation Grant Program

AGENCY: Office for Victims of Crime, Office of Justice Programs, Justice.

ACTION: Notice of proposed rulemaking.

SUMMARY: The Office of Justice Programs (“OJP”), a bureau of the Department of Justice, Office for Victims of Crime (“OVC”) proposes adding a subpart to its regulations to replace the existing Victims of Crime Act (“VOCA”) Victim Compensation Program Guidelines (“Guidelines”), and update and codify program requirements for the VOCA Victim Compensation Formula Grant Program (“Victim Compensation Program”).

DATES: Comments must be received by no later than 11:59 p.m., E.T., on April 5, 2024.

ADDRESSES:

Electronic comments: OVC encourages commenters to submit all comments electronically through the Federal eRulemaking Portal, which provides the ability to type comments directly into the comment field on the web page or attach a file. Please go to https://www.regulations.gov and follow the on-line instructions at that site for submitting comments. Upon completion of your submission, you will receive a Comment Tracking Number. Submitted comments are not instantaneously available for public view on regulations.gov. If you have received a Comment Tracking Number, you have submitted your comment successfully and there is no need to resubmit the same comment. Commenters should be aware that the system will not accept comments after 11:59 p.m. Eastern Time on the last day of the comment period.

Paper comments: OVC prefers to receive comments via www.regulations.gov where possible. Paper comments that duplicate electronic submissions are not necessary and are discouraged. Should you wish to mail a paper comment in lieu of an electronic comment, it should be sent via regular or express mail to: VOCA Compensation Rule Comments, Office for Victims of Crime, Office of Justice Programs, U.S. Department of Justice, 810 7th Street NW, Washington, DC 20531.

To ensure proper handling of comments, please reference “RIN 1121-AA89” on all electronic and written correspondence, including any attachments.

FOR FURTHER INFORMATION CONTACT: Kathrina Peterson, Division Director, Office for Victims of Crime, Office of Justice Programs, U.S. Department of Justice, 810 Seventh Street NW, Washington, DC 20531; (202) 616-3579 (please note that this is not a toll-free number).

SUPPLEMENTARY INFORMATION:

I. Posting of Public Comments

Please note that all comments received are considered part of the public record and made available for public inspection online at www.regulations.gov. Such information includes personal identifying information (such as your name, address, etc.) voluntarily submitted by the commenter. The Freedom of Information Act applies to all comments received.

If you wish to submit personal identifying information (such as your name, address, etc.) as part of your comment, but do not wish for it to be posted online, you must include the phrase “PERSONAL IDENTIFYING INFORMATION” in the first paragraph of your comment. You must also place all of the personal identifying information that you do not want posted online in the first paragraph of your comment and identify with specificity what information you want the agency to redact.

If you wish to submit confidential business information as part of your comment, but do not wish it to be posted online, you must include the phrase “CONFIDENTIAL BUSINESS INFORMATION” in the first paragraph of your comment. You must also prominently identify all confidential business information to be redacted within the comment. If a comment has so much confidential business information that it cannot be effectively redacted, the agency may choose not to post all or part of that comment.

Personal identifying information identified and located as set forth above will be placed in the agency's public docket file, but not posted online. Confidential business information identified and located as set forth above will not be placed in the public docket file. If you wish to inspect the agency's public docket file in person by appointment, please see the FOR FURTHER INFORMATION CONTACT paragraph.

II. Executive Summary

OJP's Office for Victims of Crime (“OVC”) administers the VOCA Victim Compensation Grant Program (“Victim Compensation Program”). The Victims of Crime Act of 1984 (“VOCA”), Public Law 98-473, sec. 1403, 34 U.S.C. 20102, authorizes the Victim Compensation Program, through which OVC provides an annual grant to State ¹ victim compensation programs in amounts determined by statutory formula based on prior year expenditures of those programs, provided that the programs meet the VOCA criteria. State compensation programs make payments to reimburse victims of crime (or, in some cases, third-party providers on behalf of victims) for certain expenses incurred as a result of crime.

¹ For purposes of this notice, the term “State” includes the District of Columbia, the Commonwealth of Puerto Rico, the United States Virgin Islands, and any other possession or territory of the United States. 34 U.S.C. 20102(d)(4) (defining “State” for VOCA Compensation).

The proposed rule proposes to replace the existing Victim Compensation Program Guidelines (“Guidelines”), published in the Federal Register on May 16, 2001, at 66 FR 95, and update and codify program requirements. The proposed rule retains most of the substance of the current Guidelines, with various modest technical and substantive updates, primarily to account for statutory or procedural changes since 2001, and to clarify or streamline existing provisions. Of note, the proposed rule would clarify and streamline the policies and definitions regarding who may be considered a survivor of a victim; medical and dental expenses; property damage expenses; sexual assault forensic exam expenses; the requirement that States promote victim cooperation with the reasonable requests of law enforcement; consideration of a victim's or survivor's immigration status, criminal history, or alleged contributory conduct in claim determinations; and crowdfunded resources. It would make it easier for States to seek reimbursement for costs associated with recovery efforts (recovering payment amounts via restitution and subrogation). It would address extensions of grant performance periods and better describe OVC's discretion in remedying erroneous State certification of payments.

The benefits of this proposed rule outweigh the potential costs. A full analysis of costs and benefits is provided below in the regulatory certifications section.

III. Background

A. Overview of the VOCA Compensation Program

OVC's Victim Compensation Program provides an annual grant to eligible State-operated crime victim compensation programs, which reimburse victims of crime (or, in some cases, third-party providers on behalf of victims) for certain expenses incurred as a result of crime.

The Victim Compensation Program is funded from the Crime Victims Fund. The Fund receives Federal criminal fines, penalties, and assessments, as well as certain gifts and bequests, but does not receive any general tax revenue. The Crime Victims Fund is administered by OVC, and amounts that may be obligated therefrom are allocated each year according to the VOCA formula at 34 U.S.C. 20101. The amount annually available for obligation through the VOCA formula allocations typically (since Federal fiscal year 2000) has been set by statute, through limits specified in the annual Commerce, Justice, and Science appropriations act, at less than the total amount available in the Fund. The VOCA formula specifies that (in most years) the first $20M available in the Fund for that year is to go toward child abuse prevention and treatment programs (via grants made by the Department of Health and Human Services), with a certain amount to be set-aside for OVC grants to address child abuse in Indian Country. After that, such sums as may be necessary are available to the Federal Bureau of Investigation and the U.S. Attorney's Offices to improve services to victims of Federal crime, and to operate a victim notification system. The remaining balance is allocated as follows: 47.5% for OVC's Victim Compensation Program, 47.5% for OVC's Victim Assistance Program, and 5% for the OVC Director to distribute in competitive-discretionary awards in certain statutorily defined categories. Generally, under the distribution rules for the Victim Compensation Program, if a portion of the 47.5% available for Compensation is not needed for that purpose (i.e., it is greater than the sum of the statutorily allocated grant amounts for the eligible State victim compensation programs for that year), it is (per the statutory formula) made available to augment the Victim Assistance Program. The Victim Assistance Program distributes funds to States as mandated by VOCA, at 34 U.S.C. 20103(a) and (b).

Under 34 U.S.C. 20102, the Director of OVC is required to make an annual grant to eligible crime victim compensation programs that is equal to 75 percent of the amount awarded by the State program to victims of crime from State funds during the fiscal year preceding the year of deposits in the Fund (two fiscal years prior to the grant year). If the amount in the Fund is insufficient to award each State its percentage of the prior year's compensation payout from State revenues, all States will be awarded the same reduced percentage of their prior year's payout from the available Federal funds. (The allocation percentage was changed, by statute, from 60 to 75 percent in 2021.)

To determine the amount of the grant, each State must annually submit to OVC a certification of the amount expended by the State compensation program in a prior Federal fiscal year. State crime victim compensation programs may use state or VOCA compensation grant funds to pay for eligible expenses allowed by State compensation statute, rule, or other established policy. The VOCA compensation formula matches state-certified payments at the statutorily defined rate after certain deductions, which include payments made with VOCA compensation funding and most property damage and loss payments, among other things. OVC does not require States to submit budgets with their formula award applications, as the allocation and use of funds under this formula program are prescribed by VOCA. OVC does require basic information about State use of the administrative and training allowance.

Each VOCA Compensation grant is available for the entire fiscal year in which the award is made (typically, OVC makes awards toward the end of the Federal fiscal year, in August and September), and the following three fiscal years. 34 U.S.C. 20101(e). Pursuant to the implementation of the VOCA Fix to Sustain the Crime Victims Fund Act (“VOCA Fix”), Public Law 117-27 (July 22, 2021), OJP has authority to grant extensions of VOCA awards, including those under the VOCA Compensation Program.

State compensation programs must comply with applicable reporting requirements, are monitored by OVC for compliance with VOCA and other applicable requirements and are subject to audit.

B. Legal Changes Affecting the VOCA Compensation Program

Since the Guidelines were promulgated in 2001, there have been changes to VOCA, section 1403, which governs the VOCA Victim Compensation Program, to other parts of VOCA, and to various government-wide and OJP-specific rules and processes relevant to the program. These changes are discussed below, along with the relevant corresponding proposed changes to the program rules; but some of the more significant changes are highlighted below for context:

On October 26, 2001, a few months after issuance of the May 2001 Guidelines, the Uniting and Strengthening America by Providing Appropriate Tools Required to Intercept and Obstruct Terrorism Act of 2001 (the USA PATRIOT Act), Public Law 107-56, title VI, sec. 622(a)-(e)(1), raised the percentage used for calculating a State's VOCA grant from 40 percent of prior year certified payouts to 60 percent starting in Federal fiscal year 2003. (This was further increased by Pub L. 117-27, sec. 2(b)(1)(A) (July 22, 2021), to the current level of 75 percent starting in Federal fiscal year 2021.) The same 2001 law also removed the eligibility requirement that State compensation programs compensate victim of terrorism occurring outside of the United States. (It should be noted that the law did not, and does not, prevent States from compensating victims of such crimes, should they choose to do so.) The October 2001 amendment also changed the means-testing- and collateral-source exceptions applicable to State victim compensation payments: It added an exception that allowed the 9/11 Victim Compensation Fund to count State victim compensation payments for purposes of means testing and collateral-source review. It expanded the concept of means testing to include not only income eligibility but also resource or asset eligibility. It also expanded the exclusion to prevent most programs from counting payments from State victim compensation programs as a collateral source until the victim is fully compensated from the losses suffered as a result of the crime. It removed the role of the Director of OVC in determining that assistance or payment provided became necessary in full or part because of the commission of a crime, and instead simply exempted payments of “any amount of crime victim compensation the applicant receives through a crime victim compensation program under this section [presumably meaning a State compensation program that receives a VOCA grant]”. It added the U.S. Virgin Islands to the list of U.S. territories treated as “States” for purposes of program eligibility. It clarified, with regard to the payor-of-last resort provision, that the 9/11 Victim Compensation Fund (as other Federal or federally financed programs) was to pay before the State victim compensation programs.

In 2006, Public Law 109-162, sec (a)(3), amended the VOCA provision allowing an administrative cost allowance of up to five percent of the annual VOCA Compensation grant, to allow grant funds also to be used for “training purposes.”

On December 19, 2014, the White House Office of Management and Budget issued a major revision and consolidation of government-wide grant rules, for codification as 2 CFR part 200. These rules promulgated as a result provide the primary legal structure for most Federal grant activity, including VOCA Victim Compensation Program grants. The Department of Justice adopted these rules (with very minor exceptions) on September 9, 2016, in its rule at 28 CFR part 2800.

On September 1, 2017, the Office of the Law Revision Counsel of the U.S. House of Representatives reclassified the U.S. Code provisions where VOCA had been codified to a different title of the Code—moving them from 42 U.S.C. 10601, et seq., to 34 U.S.C. 20101, et seq. (42 U.S.C. 10602 in the Guidelines was reclassified to 34 U.S.C. 20102.)

In 2021, the VOCA Fix increased the statutory formula percentage used for calculating a State's annual VOCA grant from 60 percent to 75 percent. It added exceptions (centered around victim wellbeing) to the existing eligibility provision that requires State compensation programs to promote victim cooperation with the reasonable requests of law enforcement. It expressly prohibited OVC from deducting (from a State's compensation payments reported in the Victim Compensation Certification form) recovery costs or collections from restitution or from subrogation for payment under a civil lawsuit. The VOCA Fix also (in 34 U.S.C. 20101(e)) gave authority to the U.S. Attorney General (who has delegated this authority to the Assistant Attorney General for the Office of Justice Programs) to allow extensions of the VOCA-award time limit, which ordinarily makes victim compensation grants available for expenditure only in the Federal fiscal year (FY) of the award plus the next three fiscal years.

In 2022, Public Law 117-103, div. W, title XIII, sec. 1311, 1316(b), March 15, 2022, added a provision (that is to be implemented no later than March 2025) requiring State victim compensation programs to waive the application deadline for certain victims whose delay in filing “was a result of a delay in the testing of, or a delay in the DNA profile matching from, a sexual assault forensic examination kit or biological material collected as evidence related to a sexual offense[.]”

C. Discussion of Proposed Changes to Program Requirements

1. Summary of Primary Substantive Changes to the Current Guidelines

The primary substantive changes that OVC proposes to make to the current Guidelines are highlighted as follows (with full discussion below):

1. OVC proposes to allow States to adopt policies that victim expenses for dental services and devices under a State-defined threshold are presumed to be attributable to a physical injury resulting from a compensable crime. This would allow States to facilitate processing of claims for these expenses in a more efficient and victim-centered manner, at a lower administrative burden to the State.

2. OVC proposes to clarify the definition of “medical expenses” and “mental health counseling and care” to emphasize that a limited definition applies for purposes of costs that a State must cover (to be an eligible program), but that States may apply a broader understanding of such expenses, in the exercise of their discretion. This would clarify that States have flexibility to address victim expenses more comprehensively where reasonable and appropriate; for example, in connection with services accessed in another jurisdiction, areas with limited access to licensed providers, or Native American healing practices.

3. OVC proposes to lower the threshold for States to seek reimbursement for the costs of their personnel who work on recovery efforts (e.g., recovering restitution, subrogation for civil lawsuit recovery). The Guidelines currently require personnel to dedicate at least 75 percent of their time to such efforts, to be included in the State certification of payments that forms the basis for a subsequent VOCA Compensation grant. OVC proposes to lower this threshold to 50 percent.

4. OVC proposes a new definition of “survivor of a victim” to make patent OVC's longstanding view that States have discretion to consider a broad variety of relationships to the victim in determining who is eligible for compensation.

5. OVC proposes to add language reflecting the statutory change in 2021 that now allows OJP (via delegation from the United States Attorney General) to extend the performance period for VOCA Compensation grants under certain circumstances.

6. OVC proposes various clarifications of previously ambiguous or incorrect descriptions of statutory requirements, and removal of text that unnecessarily paraphrases or repeats the VOCA statute.

7. OVC proposes to clarify State discretion to pay for, and certify, expenses of damaged property reasonably necessary for victim safety and how this interacts with the prohibition on certifying property damage expenses. This proposal would allow State compensation programs to address victim safety needs better, and in a timely manner.

8. OVC proposes to omit in the Compensation rule some language in the current Guidelines (and make a conforming change to the VOCA Victim Assistance Program rule) that creates some confusion regarding which program (Victim Compensation or other programs, such as Victim Assistance) may pay for sexual assault forensic exams. This proposal would allow States to structure their coverage of the costs for these exams more flexibly, to enable them better to meet the requirement in Federal law that such exams be covered without charge to a victim. OVC also proposes to allow States to certify payments by the State compensation program for sexual assault forensic exams regardless of whether those funds derive from general state funding or are specifically appropriated for sexual assault forensic exam expenses. This would allow treatment of sexual assault forensic exam payments to be like that of other victim compensation expenses (for which the state funding source is largely irrelevant) and would encourage States to designate funding for sexual assault forensic exams by including those payments from designated state funding sources in the calculation for the Federal VOCA compensation award.

9. OVC proposes to clarify the VOCA eligibility requirement that States promote victim cooperation with the reasonable requests of law enforcement, to emphasize that the requirement applies—by statute—to States, not victims. Although States have discretion in addressing the requirement, the proposal would clarify that they are not required to impose an evidentiary burden on victims to do so and expressly encourages States to avoid doing so.

10. OVC proposes to make patent that nothing in the rule shall be understood to require or authorize a State to consider a victim's or survivor's Federal immigration status in determining eligibility for crime victim compensation.

11. OVC proposes to add a provision prohibiting States from denying claims based on criminal history. Certain populations may be more likely to have criminal history due to unjustified disparate treatment in the criminal justice system or due to criminal conduct induced through force, fraud, or coercion, such as unlawful acts that traffickers compelled their victims to commit, and this can result in unjustifiably disproportionate denial of claims for those populations.

12. OVC proposes to add a provision generally prohibiting States from considering a victim's alleged contributory conduct in determining compensation claims, except in specific exceptional claims and where a State has a publicly available written policy regarding consideration of this factor. This change is intended to increase objectiveness and consistency in contributory conduct reviews and to address inconsistent attribution of “contributory conduct” to victims, which attribution may later preclude these victims from receiving compensation.

13. OVC proposes to prohibit (with exceptions) States from requiring notarized signatures on claim applications. This is intended to lower the administrative barriers for victims seeking compensation.

14. OVC proposes a provision to clarify that crowdfunded resources are not considered a collateral source and to clarify that the VOCA payor-of-last-resort provision does not apply to private insurance or crowdfunded resources.

15. OVC proposes minor changes to the provisions regarding incorrect State certification of compensation payments, to make patent OVC's discretion in remedying over- and under-payments resulting from erroneous certifications.

2. Section-by-Section Discussion of Changes to Current Guidelines

What follows is a section-by-section discussion of proposed changes to the Guidelines. It is organized below in the section order of the current Guidelines, with new proposed rule sections with no corresponding Guideline provision marked “NEW.”.

Guideline | Proposed rule
N/A | NEW: 94.201 to 94.205. Sets forth administrative provisions describing the purpose of the rule and program, the scope of the rule, and OVC's authority regarding issuing guidance on the application of the rule; providing a savings clause; and describing when and to which grants the rule applies.
Preamble | Preamble. Consolidates and updates the information from the Guideline's two preamble sections.
Sec. I Definitions | 94.206 Definitions. Retains some definitions from the Guidelines and adds (as denoted by asterisk) some definitions. The proposed rule defines—
| • * Administrative costs (defines the statutory term by providing examples consistent with those in the Guidelines);
| • * Certified compensation payment and Certify payment (defines these terms for clarity because they are used frequently in the Guidelines and proposed rule, and relate to determination of the annual award amount);
| • * Certifiable property damage expenses (defines certain property damage expenses for victim safety and physical necessities);
| • * Collateral source (defines this term in a general way for clarity, because it is a key concept applied by States in determining compensation payments);
| • * Crime victim or victim of crime (defines this generally as context for other eligibility concepts, such as victim of a “compensable crime”; without the core broad definition of victim, the other definitions may be more difficult to understand);
| • * Crowdfunding (defines this generally as context for the proposed rules regarding consideration of collateral sources);
| • * Dental services or devices (defines the statutory term to make patent OVC's longstanding understanding that the term encompasses a range of compensable expenses);
| • * Director (defined for context);
| • Driving while intoxicated (retains the Guideline's longstanding definition, which reconciles the statutory term with a similar statutory term “drunk driving” by treating the offense of drunk driving to be a subset of driving while intoxicated, and provides some clarifying examples of how such offenses may be described in a State's law);
| • Federal crime (retains but condenses the definition);
| • * Federal fiscal year (defines the time period to reflect that used in the Guidelines and most Federal programs);
| • * Funeral expenses (defines the statutory term to make patent that the term encompasses a range of expenses attributable to a death from compensable crime, but that States may impose reasonable cost and scope limitations);
| • Mandatorily compensable crime (defines in one place the crimes for which a State must, by statute, offer compensation);
| • Medical expenses (refers to statutory definition, which is quoted for ease of reference);
| • Mental health counseling and care (retains but updates definition to clarify that the term includes a variety of treatment methods, and refers to the professional treatment standards in the jurisdiction in which care is administered to address situations where care occurs outside of the State);
| • Method of healing recognized by the law of the State (clarifies that the applicable professional standards are those of the jurisdiction where the medical healing practice is provided, and that a State may recognize other healing practices);
| • Optionally compensable crime (defines crimes for which a State may provide compensation; examples are consistent with those in the Guidelines);
| • Optionally compensable expenses (provides examples, consistent with Guidelines, of expenses for which a State may provide compensation);
| • * Personnel directly involved in recovery efforts (defines the statutory phrase added to VOCA by the VOCA Fix Act relating to reimbursement of personnel and other costs associated with recovering compensation payments via restitution, subrogation, or other means; see discussion of Recovery Costs in proposed section 94.234 for additional information);
| • * Preceding fiscal year (defines the ambiguous statutory phrase to refer to the year preceding the year of deposits into the Crime Victims Fund, which is presumed to occur in the fiscal year before the grants are awarded; this is in accordance with OVC's longstanding practice of using reporting from two years prior to the Federal fiscal year of the grant award to calculate the grant amounts and also has the prudential advantage of allowing States to complete their accounting for the relevant time period);
| • Property damage (retains Guideline definition of “Property Damage and Loss” but uses the statutory term; definition continues to include both tangible and intangible property, but adds clarification regarding exclusions for otherwise compensable medical expenses or items excluded by the statutory definition of property damage);
| • * Recovery costs (references statutory definition, which is quoted for ease of reference);
| • * Services rendered in accordance with a method of healing (defines the statutory phrase used in the definition of “medical expenses” to include examples of medical services);
| • State (refers to the statutory definition, which is quoted for ease of reference);
| • * Supplant (defines the statutory term in a way consistent with the Guidelines and the DOJ Grants Financial Guide);
| • * Survivor of a victim (defines the statutory phrase to encompass a variety of relationship to clarify that States may consider not just traditional family relationships in determining survivor eligibility for compensation).
| • Training costs (provides examples of training costs, which are limited by an amendment to VOCA that occurred after the Guidelines were promulgated).
| * New
| OVC omits the definitions of—
| • Federal Program, or a federally financed State or local program (the term is self-explanatory, and examples of such programs are likely to be outdated quickly);
| • Mass violence (it is unnecessary to define the term in the rule—other crimes are not specifically defined—though victims of mass violence would be victims of violent crime, and thus States must compensate victims of such crimes);
| • Terrorism occurring within the United States (it is unnecessary to define the term in the rule—other crimes are not specifically defined—though victims of terrorism occurring within the United States would be victims of violent crime, and thus States must compensate victims of such crimes);
| • Terrorism occurring outside the United States (it is unnecessary to define the term in the rule because the statutory requirement that States compensate victims of such crimes was removed by Public Law 107-56, tit. VI, subtit. B, § 624I, 115 Stat. 272, 373, thus, States may, but are not required to, compensate victims of such crimes; these victims may apply for compensation under OVC's International Terrorism Victim Expense Reimbursement Program).
Sec. II. Background | Preamble. General updates.
Sec. III.A. Funding Allocations | Preamble. General updates.
Sec. III.B. Grant Period | 94.241 Grant Award Period of Performance. Updates to reflect the VOCA Fix (allows extensions).
Sec. III.C. VOCA Victim Compensation Grant Formula | Omitted because it merely repeats statutory language.
Sec. IV. A. Grantee | 94.211 Eligibility of the Compensation Program. Updated to condense, but no substantive changes.
Sec. IV.B. Program Requirements | Program Requirements heading. 94.211-94.215.
Sec. IV.B.1. Compensable Crimes | Definitions of mandatorily compensable crime and optionally compensable crime. Updates to omit statutory repetition.
Sec. IV.B.1.(a) VOCA Mandated Crime | Definition of mandatorily compensable crime. Updates to omit statutory repetition; removes reference to coverage of terrorism to conform to current law.
Sec. IV.B.1.(b) Coverage of Other Crimes | Definition of optionally compensable crime. Updates to omit statutory repetition and to clarify.
Sec. IV.B.2. Compensable Expenses | Definitions of mandatorily compensable expenses and optionally compensable expenses; 94.212 Payments and Certification of Payments. Updates to omit statutory repetition and to clarify and streamline; moves definitions to definition section.
Sec. IV.B.2.(a) VOCA Mandated Expenses | Definition of mandatorily compensable expenses. Updates to omit statutory repetition and to clarify and streamline; moves definitions to definition section.
Sec. IV.B.2.(b) Other Allowable Expenses | Definition of optionally compensable expenses; 94.212 Payments and Certification of Payments. Clarifies ambiguity in Guideline between use of VOCA Compensation funds for compensation payments and certification to OVC of State-funded payments. Also moves list of optionally compensable expenses to the definition, and clarifies that the list items are examples, not restrictions. Regarding specific items:
| • Clarifies in a more conceptual way the exceptions for compensation of property necessary for victim safety in a new definition, certifiable property damage expenses.
| • Clarifies that compensation for building modifications and equipment may address any disability, not just physical.
| • Removes limitations on certifying forensic sexual assault examination expenses, so that these are treated like any other expense and to allow States flexibility to meet victim needs (and adds a conforming change to 94.119(g)).
| • Adds language, in section 94.212(c), addressing considerations for dental services and devices. This language allows States to use streamlined process—via a presumption of causation—for payment of these expenses. A presumption is justified because dental injuries often are not covered by collateral sources, such as health insurance, delays in service may exacerbate injury and increase costs, and treating dentists typically are not asked, and may not be trained, to opine on causation of specific dental injuries when providing services.
| • Adds definition of method of healing recognized by the law of the State to clarify that States may compensate for expenses meeting the professional standards of the jurisdiction in which care is provided, and that they also have discretion to compensate for other healing practices.
Sec. IV.B.3. Victim Cooperation With Law Enforcement | 94.213 Promotion of Victim Cooperation with Reasonable Requests of Law Enforcement. OVC corrects the Guideline's misdescription of a statutory requirement: VOCA requires that States promote reasonable cooperation with the reasonable requests of law enforcement, not that States ensure or document such cooperation. It also updates the requirements to reflect the statutory exceptions to such promotion added by the VOCA Fix, gives examples of promotion, and requires that States have a policy regarding exceptions if the State requires the victim to bear an evidentiary burden to show cooperation.
Sec. IV.B.4. Nonsupplantation | 94.214 Nonsupplantation of State Funds. Updates to omit statutory repetition, clarify that broad (in addition to “across the board”, the phrase in the Guidelines) budget restrictions at the State level typically are not supplanting and that a return to a prior baseline level of funding after a temporary increase is not supplanting, either; it also would eliminate requirement to notify OVC of funding decreases.
N/A | NEW: 94.113 Engagement with American Indian and Alaskan Native tribes. Requires certain States to have a tribal engagement policy.
N/A | NEW: Victim Eligibility Considerations heading. This groups all requirements for State criteria for victim eligibility.
Sec. IV.B.5. Compensation for Residents Victimized Outside Their Own State | 94.221 Residency and Place of Crime. Updates to omit statutory repetition, and remove provisions no longer supported by law.
Sec. IV.B.6. Compensation for Nonresidents of a State | 94.221. Updates to omit statutory repetition.
N/A | NEW: 94.221(c). Makes patent that nothing in the rule shall be understood to require or authorize a State to consider the victim's or survivor's Federal immigration status in determining eligibility for crime victim compensation.
Sec. IV.B.7. Victims of Federal Crime | Definition of Mandatorily compensable crime. Moves the requirement to the definition and updates it to omit statutory repetition.
N/A | NEW: 94.222 Criminal History and Delinquent Payments. Prohibits claim denials based on criminal history, with certain exceptions. Makes patent in the rule (where the Guidelines did not address the matter) that there is a longstanding statutory stay of the effective date of the VOCA eligibility requirement regarding the prohibition of payments to persons delinquent in paying Federal criminal fines, penalties, or restitution.
N/A | NEW: 94.223 Contributory Conduct. Adds a requirement that States may not consider a victim's alleged contributory conduct, except in specific exceptional cases and only where the State has a written policy regarding consideration of this factor that is publicly available.
Sec. IV.B.8. Unjust Enrichment | 94.224. Familial Relationship or Shared Residence with Offender (Unjust Enrichment). Updates to omit statutory repetition, eliminates vague examples, and limits denial of claims for de minimis benefit to the offender and expressly allows exceptions for victim well-being.
N/A | NEW: 94.225 Victim Application Provisions. Addresses the VOCA statutory requirement added by the VOCA Fix that requires (starting on March 15, 2025) that States waive the claim filing deadline for claims related to sexual assault where forensic evidence testing, or matching, is delayed. Also prohibits States from requiring a notarized signature for an initial application, because this is an unnecessary barrier to accessing the compensation program.
Sec. IV.B.9. Discrimination Prohibited | 94.249 Discrimination Prohibited. Updates to omit statutory repetition, and to refer to applicable DOJ regulation and OJP Office for Civil Rights mandates, and to emphasize language access requirements.
Sec. IV.B.10. Additional Information Requested by the OVC Director | Omitted because it simply repeats statutory language.
N/A | NEW: Relationship to Collateral Sources of Payment heading. Groups together provisions addressing collateral sources.
Sec. IV.C. VOCA Funds and Collateral Federal Programs | 94.231 Coordination. Updated, but retains language regarding State coordination with other programs to facilitate victim access to resources.
Sec. IV.C.1. Means Testing | 94.232 Means Testing. Omits repetition of statutory language and deletes a provision regarding the OVC Director's authority that has been incorrect since an October 2001 statutory change. Clarifies that the restriction on using victim compensation payments for means testing or payment offset in other programs applies to both State and federally funded payments.
Sec. IV.C.2. Payor of Last Resort | 94.233 Payor of Last Resort. Omits repetition of statutory language but retains Guideline exceptions. Addresses an ambiguity in the Guidelines by clarifying that OVC interprets the statutory provision to apply to victim compensation payments from State or VOCA Compensation grant funds, not merely the latter.
N/A | NEW: 94.234 Private Donations and Crowdfunding. Adds a provision generally prohibiting the consideration of private donations and crowdfunding as collateral sources. VOCA does not require means testing of victims as a condition of compensation.
N/A | NEW: Program Administration heading. Groups technical administrative requirements.
Sec. V. State Certification | 94.243 Process for State Certification of Compensation Payments. Updates the provision: Refers to Victim Compensation Certification form, which has detailed reporting instructions, instead of setting forth those instructions in the rule. Adds a requirement that States have a written policy regarding submission of the VCC form, to address a frequent recommendation in Office of the Inspector General audits.
Sec. V.A. Program Revenue | Omits the requirement that States report revenue, as this information is not used.
Sec. V.B. Program Expenditures | Omits this provision in favor of relying on the VCC form instructions, which reflect the Guideline provision.
Sec. V.C. Amounts to be Excluded | Omits this provision in favor of relying on the VCC form instructions, which reflect the Guideline provision.
Sec. V.D. Deductions | Omits this provision in favor of relying on the VCC form instructions, which have been updated to reflect the VOCA Fix, which prohibits OVC from deducting recovery costs or collections from restitution or subrogation.
Sec. V.E. [Omitted erroneously in Guidelines] | N/A.
Sec. V.F. Recovery Costs | 94.244 Recoupment of Compensation Payments and Recovery Costs, and definition of Personnel directly involved in recovery efforts. Updates the provision to reflect the VOCA Fix, which essentially codifies OVC's longstanding practice of subsidizing State costs (including personnel costs) of recovering—typically via seeking restitution from the offender or subrogation from civil lawsuit recoveries—victim compensation payments. Decreases time threshold at which personnel are considered “personnel directly involved in recovery efforts” from 75% to 50% of the staff member's work time.
Sec. V.G. Sources of Payments to Crime Victims | 94.246 Sources of Payments to Crime Victims. Retains the Guideline provision, which facilitates State program administration by not requiring accounting at the payment level. (States are allowed to, and some do, use more detailed accounting.) Clarifies that aggregate payment amounts must be allocated in the accounting to Federal or State funding for reporting purposes.
Sec. V.H. Incorrect Certifications | 94.245 Incorrect Certifications. Retains the Guidelines provision regarding default remedies for incorrect certifications (e.g., recovery of excess funds for over-certifications, no supplemental funding for under-certifications) but makes patent OVC's discretion to use alternative remedies (e.g., offset of over-certifications against under-certifications) as appropriate.
Sec. VI. Application Process and Performance Reporting | 94.241 Application, 94.247 Reporting. Retains the substance of Guideline provision with some updates.
Sec. VI.A. Application for Federal Assistance | 94.241 Application. Retains the provision with minor updates.
Sec. VI.B. Annual Performance Report | 94.247 Reporting. Omits this language about annual performance report in favor of a more general requirement that States comply with OVC reporting requirements and deadlines (set forth in the solicitation and award document).
Sec. VII. Administrative Costs | Administrative and Training Costs heading (94.251 and 94.252).
Sec. VII.A. Administrative Costs Allowance | 94.251 Administrative and Training Cost Allowance. Updates to omit repetition of statute; to reflect a 2006 amendment to VOCA that added an express allowance of training costs to the administrative-cost-allowance provision, which now caps both administrative and training costs (in the aggregate) at 5 percent of the annual grant; and to use terminology from government-wide grant guidance. Moves non-supplantation language to 94.214.
Sec. VII.B. Allowable Costs | 94.252 Allowable Administrative and Training Costs. Updates to reflect VOCA amendment allowing training, in addition to administrative, costs; to use terminology from government-wide grant guidance; and to condense. In response to confusion in various audits, adds clarification that the State crime victim compensation program, for purposes of allocating VOCA Compensation administrative and training funds, encompasses both State and federally funded payments and activities of the compensation program.
Sec. VII.C. Requirements to Notify OVC of Use of Administrative Funds | 94.251(a). Retains the provision with minor updates.
Sec. VII.D. Confidentiality of Research Information | Omits this provision because VOCA Compensation grants generally do not fund research or statistical collections, and because the provision repeats and mischaracterizes the statutory provision at 34 U.S.C. 20110(d). The provision's interpretation of 20110(d), as not superseding mandatory reporting laws, is outside the scope of the rule and thus also is omitted.
N/A | NEW: 94.250 Non-disclosure of Confidential or Private Information. Incorporates VOCA Assistance confidentiality requirements by reference, mutatis mutandis (i.e., as adjusted for the VOCA Compensation context). Added in response to various States' requests for confidentiality protections.
Sec. VIII. Financial Requirements | 94.202 Scope. Retained in substance, makes minor updates to refer to current document names (e.g., Circulars are now 2 CFR part 200).
Sec. IX. Monitoring | 94.248 Access to Records. Condenses and folds this provision into 94.248, which addresses access to records. OJP has monitoring policies that are updated from time-to-time, and details regarding monitoring typically are communicated with award documents or in other communications, thus the (now inaccurate) description of monitoring procedures is omitted.
Sec. X. Suspension and Termination of Funding | Omitted because remedies are addressed in VOCA at 34 U.S.C. 20110, DOJ regulations in 28 C.F.R. part 18, and in 2 C.F.R. part 200, as well as in annual award documents.

VI. Regulatory Certifications

A. Regulatory Flexibility Act of 1995

The Regulatory Flexibility Act (“RFA”, 5 U.S.C. 601-612) applies to rules that are subject to notice and comment under section 553(b) of the Administrative Procedure Act (“APA”). As noted in the discussion, below, however, regarding the applicability of the APA, this proposed rule is exempt from the 553(b) notice and comment requirements. Consequently, the RFA does not apply.

Nevertheless, consistent with the analysis typically required by the RFA (5 U.S.C. 605(b)), OVC has reviewed this proposed regulation and, by approving it, certifies that it will not have a significant economic impact on a substantial number of small entities. The Victim Compensation Program provides grant funding to States to supplement their crime victim compensation programs, thus this proposed rule will have no direct effect on any particular local governments or entities, nor will it have any cost to State, local, or tribal governments, or to the private sector. The program is funded by fines, fees, penalty assessments, and bond forfeitures paid by Federal offenders, as well as gifts from private individuals, that are deposited into the Crime Victims Fund of the U.S. Treasury. Therefore, an analysis of the impact of this proposed rule on such entities is not required under the RFA.

B. Executive Orders 12866, 13563, and 14094—Regulatory Review

This regulation has been drafted and reviewed in accordance with Executive Order 12866, “Regulatory Planning and Review”; Executive Order 13563 “Improving Regulation and Regulatory Review”; and Executive Order 14094, “Modernizing Regulatory Review”. The Department has determined that this rule is not a “significant regulatory action” under section 3(f) of Executive Order 12866, Regulatory Planning and Review. Accordingly, this rule has not been reviewed by the Office of Management and Budget.

Consistent with the principles of Executive Order 14094, OVC engaged in substantial outreach and knowledge gathering related to this effort. This NPRM was informed by input from a wide variety of interested and affected communities, including formal stakeholder discussion sessions that included State compensation and assistance administrators, tribal organizations, victims of crime, and organizations that represent and serve victims of crime.

This proposed rule would impose no cost on State, local, or tribal governments, or on the private sector. The Crime Victim Compensation Grant Program is funded by fines, fees, penalty assessments, and forfeitures paid by Federal offenders, as well as gifts from private individuals, that are deposited into the Crime Victims Fund of the U.S. Treasury. The cost to the Federal Government is largely administrative and is clearly outweighed by the government's interest in seeing that crime victims are compensated for the expenses associated with their victimization. Annual grant amounts are determined by statutory formula. Consequently, none of the changes in this rule is expected to alter the overall budgetary impact of this program or annual grant amounts materially.

OVC estimates that the proposed changes highlighted in the Executive Summary may marginally increase the amount of victim compensation payments by reducing barriers for victims and allowing States some additional flexibility. OVC does not anticipate that such changes would materially alter the outlays for victim compensation at the State level because the changes primarily would afford States additional flexibility to address marginal situations arising in the context of compensation that they already generally provide (e.g., flexibility to cover unique but justifiable costs incurred by a victim for mental health needs, prohibiting denials based on criminal history). The benefits of these changes for individual victims, however, would be likely to be significant, as would be the benefit of advancing equity in claim determinations and reducing unnecessary barriers to compensation. OVC anticipates that the proposal to lower the threshold at which States may seek reimbursement for personnel involved in recovery efforts would result in a marginal, but non-material, increase in the amount of recovery costs that States are eligible to recover via the annual grant. In FY 2022, States recovered approximately $5.9 million in recovery costs. If the proposed provision increases eligible State recovery costs by 25 percent, the overall effect on the program outlays would be approximately $1.5 million annually, or less than 1 percent of the annual grant amounts (which totaled $177,813,000 in FY 2022). This de minimis cost increase in the Federal outlays are outweighed by the benefit to victims and State programs of incentivizing States to fund recovery efforts that result in money (including money for expenses not compensated) returning to victims and to the State programs. OVC does not expect that the revision to the provision regarding sexual assault forensic exam payments necessarily would cause changes to State payment regimes immediately and expects that most States would continue to cover sexual assault forensic exam costs from the State victim compensation program. OVC is not able to estimate the costs of State changes that would take advantage of additional flexibility regarding covering such exams from either program, because such changes would in large part depend on future State legislative action. OVC does expect, however, that State-level changes taking advantage of additional flexibility would inure to the end benefit to victims. The proposed prohibition on notarized signature requirements for applications would not impose a cost (nearly all States have eliminated this already without additional costs) but would reduce this cost- and time barrier for victims seeking compensation in the few (approx. 2) States that retain notary requirements. The proposed rule regarding crowdfunded resources may marginally increase State payments where such resources may have previously been counted as a collateral source. The provision, however, is also expected to reduce State administrative burdens regarding inquiring into the nature of crowdsourced resources, which, in many cases, would not be information readily available to State administrators. The provision regarding OVC's discretion to remedy over- and under certifications would not impose any new costs, because it merely would codify OVC's current approach, which considers a range of remedies (typically aimed at maximizing recovery of overpayments while minimizing the burden on State compensation resources).

C. Administrative Procedure Act

This proposed rule concerns matters relating to “grants, benefits, or contracts,” 5 U.S.C. 553(a)(2), and is therefore exempt from the requirement of notice and comment and a 30-day delay in the effective date. Nevertheless, in its discretion, OVC has decided to solicit comments on this proposed rule.

D. Executive Order 13132—Federalism

The VOCA Compensation Program does not impose any mandates on States; nor does it interfere with States' sovereignty, authorities, or rights. States, rather, participate in the Program voluntarily and, as a condition of receipt of funding, agree to comply with the Program's requirements, which are predicated on the authorizing statute. Thus, this proposed rule would not have substantial direct effects on the States, on the relationship between the Federal Government and the States, or on distribution of power and responsibilities among the various levels of government. The proposed rule would not impose substantial direct compliance costs on State and local governments or preempt any State laws. Therefore, in accordance with Executive Order No. 13132, it is determined that this proposed rule would not have sufficient federalism implications to warrant the preparation of a Federalism Assessment.

E. Executive Order 12988—Civil Justice Reform (Plain Language)

This proposed rule meets the applicable standards set forth in section 3(a) and (b)(2) of Executive Order No. 12988 to specify provisions in clear language. Pursuant to section 3(b)(1)(I) of the Executive order, nothing in this proposed or any previous rule (or in any administrative policy, directive, ruling, notice, guideline, guidance, or writing) directly relating to the Program that is the subject of this proposed rule is intended to create any legal or procedural rights enforceable against the United States.

F. Unfunded Mandates Reform Act of 1995

This proposed rule, when finalized, would not result in the expenditure by State, local and Tribal Governments, in the aggregate, or by the private sector, of $100,000,000 or more in any one year, and it would not significantly or uniquely affect small governments. The Victim Compensation Program provides funds to States to supplement their victim compensation programs. As a condition of funding, States agree to comply with the Program requirements. Therefore, no actions are necessary under the provisions of the Unfunded Mandates Reform Act of 1995.

G. Congressional Review Act

This proposed rule is not a major rule as defined by 5 U.S.C. 804. This proposed rule would not result in an annual effect on the economy of $100,000,000 or more; a major increase in costs or prices; or significant adverse effects on competition, employment, investment, productivity, innovation, or on the ability of United States-based companies to compete with foreign-based companies in domestic and export markets.

H. Paperwork Reduction Act

This proposed rule would not propose any new, or changes to existing, “collection[s] of information” as defined by the Paperwork Reduction Act of 1995 (44 U.S.C. 3501, et seq.) and its implementing regulations at 5 CFR part 1320.

List of Subjects in 28 CFR Part 94

Crime Victims, Formula Grants, Victim Compensation.

Accordingly, for the reasons set forth in the preamble, the Office of Justice Programs proposes to amend Title 28, Part 94, of the Code of Federal Regulations as follows:

PART 94—CRIME VICTIM SERVICES

1. The authority citation for part 94 is revised to read as follows:

Authority: 34 U.S.C. 20102, 20103, 20106, 20110(a), 20111.

Subpart B—VOCA Victim Assistance Program

§ 94.119 [Amended]

2. Amend § 94.119, in paragraph (g), by removing “to the extent that other funding sources such as State appropriations are insufficient”.

3. Add a new subpart C to read as follows:

Subpart C—Victim Compensation Grant Program

Sec.
General Provisions
94.201 Purpose.
94.202 Scope.
94.203 Construction and severability.
94.204 Compliance date.
94.205 Definitions.
94.206 [RESERVED]
94.207 [RESERVED]
94.208 [RESERVED]
94.209 [RESERVED]
94.210 [RESERVED]
Program Requirements
94.211 Eligibility of the Compensation Program.
94.212 Payments and Certification of Payments.
94.213 Promotion of Victim Cooperation With Reasonable Requests of Law Enforcement.
94.214 Nonsupplantation of State Funds.
94.215 Engagement With American Indian and Alaskan Native Tribes.
94.216 [RESERVED]
94.217 [RESERVED]
94.218 [RESERVED]
94.219 [RESERVED]
94.220 [RESERVED]
Victim Eligibility Considerations
94.221 Residency and Place of Crime.
94.222 Criminal History and Delinquent Payments.
94.223 Contributory Conduct.
94.224 Familial Relationship or Shared Residence With Offender (Unjust Enrichment).
94.225 Victim Application Provisions.
94.226 [RESERVED]
94.227 [RESERVED]
94.228 [RESERVED]
94.229 [RESERVED]
94.230 [RESERVED]
Relationship to Collateral Sources of Payment
94.231 Coordination.
94.232 Means Testing.
94.233 Payor of Last Resort.
94.234 Private Donations and Crowdfunding.
94.235 [RESERVED]
94.236 [RESERVED]
94.237 [RESERVED]
94.238 [RESERVED]
94.239 [RESERVED]
94.240 [RESERVED]
Program Administration
94.241 Grant Award Period of Performance.
94.242 Application for Annual Grant.
94.243 Process for State Certification of Compensation Payments.
94.244 Recoupment of Compensation Payment Recovery Costs.
94.245 Incorrect Certifications.
94.246 Sources of Payments to Crime Victims.
94.247 Reporting.
94.248 Access to Records.
94.249 Discrimination Prohibited.
94.250 Non-disclosure of Confidential or Private Information.
Administrative and Training Costs
94.251 Administrative and Training Cost Allowance.
94.252 Allowable Administrative and Training Costs.

Authority: 34 U.S.C. 20102.

General Provisions

§ 94.201 Purpose.

This subpart implements the provisions of the Victims of Crime Act of 1984 “VOCA”, at 34 U.S.C. 20102, which, as of [INSERT DATE OF PUBLICATION OF FINAL RULE IN THE FEDERAL REGISTER], authorize the Director to make an annual grant award, of an amount determined by statutory formula, to each eligible crime victim compensation program, to be used by such program for awards of compensation and, in statutorily limited amounts, for training purposes and the administration of the crime victim compensation program.

§ 94.202 Scope.

This subpart applies to both VOCA Victim Compensation Program formula grant award applicants and recipients. VOCA sets out the statutory requirements governing these grant awards, and this subpart should be read in conjunction with it. Grant awards under this program also are subject to various government-wide grant rules, including those in 2 CFR part 200, as implemented by the Department of Justice at 2 CFR part 2800, and the DOJ Grants Financial Guide.

§ 94.203 Construction and severability.

(a) Any provision of this subpart held to be invalid or unenforceable by its terms, or as applied to any person or circumstance, shall be construed so as to give it the maximum effect permitted by law, unless such holding shall be one of utter invalidity or unenforceability, in which event such provision shall be deemed severable from this subpart and shall not affect the remainder thereof or the application of such provision to other persons not similarly situated or to other, dissimilar circumstances.

(b) Unless otherwise expressly indicated, references herein—

(1) to statutory provisions are to be understood as references to such provisions as in effect on [INSERT DATE OF PUBLICATION OF THE FINAL RULE IN THE FEDERAL REGISTER];

(2) to provisions of 2 CFR part 200 are to be understood as references to such provisions as implemented by the Department of Justice at 2 CFR part 2800, all as in effect at the time of the pertinent grant award; and

(3) to provisions of the DOJ Grants Financial Guide are to be understood as references to such provisions as in effect at the time of the pertinent grant award.

§ 94.204 Compliance date.

This subpart applies to all Federal grant awards under this program made after the effective date of this rule.

§ 94.205 Definitions.

As used in this subpart—

Administrative costs include, but are not limited to, personnel costs (salaries, fringe benefits, consultants, contractors), travel costs, equipment and supplies, facilities, audits (see 2 CFR 200.425), indirect costs, coordination efforts, informational resources, memberships in crime victim organizations (see 2 CFR 200.454), strategic planning, surveys, needs assessments, policy and procedure development.

Certified compensation payment means a compensation payment that the appropriate State official has certified.

Certifiable property-damage expenses means optionally compensable expenses arising from property damage that are incurred for—

(1) purchase or acquisition of property reasonably necessary for victim safety (such as cell phones; security items such as doorbell cameras, movement lights, and locks; and window and door repair or replacement); or

(2) replacement of clothing or bedding or other physical property held as evidence.

Certify payment means to certify (via the Victim Compensation Certification form) that a payment meets the criteria in VOCA (as implemented by this rule) to be counted for the statutory partial-matching formula (see 34 U.S.C. 20102(a)) that determines the amount of the State's VOCA Compensation grant award, unless context should indicate otherwise.

Collateral source means a source of funding outside of the crime victim compensation program to pay for an expense covered by the compensation program.

Contributory conduct means conduct (e.g., engaging in the commission of a crime) that a State has determined to have contributed to a person's own victimization.

Crime victim or victim of crime means a person who has suffered physical, sexual, financial, or emotional harm as a result of the commission of a crime, or as otherwise defined under pertinent State law.

Crowdfunding means a method of raising funds by soliciting contributions widely, often through internet platforms.

Dental services and devices include those reasonably necessary for dental care, including, but not limited to, assessment, diagnosis, and treatment of underlying conditions affecting the treatment of the victimization injury, medication, prosthetics, and orthodontic appliances.

Director means the Director of the Office for Victims of Crime.

Driving while intoxicated means drunk driving and driving under the influence of alcohol or other drugs, as defined by the law or policy of the pertinent jurisdiction (e.g., driving-under-the-influence- (“DUI”) or driving-while-impaired (“DWI”) offenses, such as DUI/DWI hit and run, DUI/DWI motor-vehicle crash, DUI/DWI resulting in death).

Federal crime means any criminal violation of the United States Criminal Code or the Code of Military Justice.

Federal fiscal year means (as used in this rule) the period beginning on October 1st and ending on September 30th.

Funeral expenses mean expenses of a funeral, burial, cremation, or other chosen method of interment or disposal of remains, and associated ceremonies, and other related expenses, all subject to reasonable State cost and scope limitations.

Mandatorily compensable crime means the following crimes for which a State must offer compensation—

(1) any crime indicated at 34 U.S.C. 20102(d)(2) (“crimes, whose victims suffer death or personal injury, that are described in section 247 of title 18 [damage to religious property and obstruction of persons in the free exercise of religious beliefs], driving while intoxicated, and domestic violence”);

(2) any crime indicated at 34 U.S.C. 20102(b)(1) (criminal violence, drunk driving, domestic violence); and

(3) any Federal crime indicated at 34 U.S.C. 20102(b)(5) (same basis for compensation of Federal crimes occurring within the State as for State crimes occurring there).

Mandatorily compensable expenses means expenses indicated at 34 U.S.C. 20102(b)(1) (medical expenses, lost wages, or funeral expenses attributable to a physical injury or death resulting from a mandatorily compensable crime).

Medical expenses has the meaning set forth in 34 U.S.C. 20102(d)(2) (“includes, to the extent provided under the eligible crime victim compensation program, expenses for eyeglasses or other corrective lenses, for dental services and devices and prosthetic devices, and for services rendered in accordance with a method of healing recognized by the law of the State.”)

Mental health counseling and care means the assessment, diagnosis, and treatment of an individual's mental and emotional functioning, and includes in-patient- and out-patient treatment, psychiatric care, counseling, therapy, and medication management. Mental health counseling and care must be provided by a person who meets professional standards to provide them in the jurisdiction in which they are provided.

Method of healing recognized by the law of the State means any medical healing practice that meets professional standards to provide it in the jurisdiction in which it is provided; such methods also may, in the discretion of the State, include other healing practices.

Optionally compensable crime means a crime (other than a mandatorily compensable crime) the victims of which may, in the discretion of the State, be eligible to receive compensation for under its eligible crime victim compensation program (e.g., non-violent crimes, fraud, neglect, threats, economic crime, privacy crime).

Optionally compensable expenses means any expenses (other than mandatorily compensable expenses) for which a State, in its discretion, may offer compensation when attributable to compensable crime; such expenses, in the discretion of the State, may include, but are not limited to, those arising from—

(1) property damage (certifiable or non-certifiable);

(2) travel and transportation;

(3) temporary lodging and relocation;

(4) building modification and equipment reasonably necessary to accommodate disabilities;

(5) crime scene cleanup;

(6) attorneys' fees;

(7) sexual assault forensic medical examinations;

(8) dependent care;

(9) financial counseling; and

(10) pain and suffering.

Personnel directly involved in the recovery efforts means personnel who allocate (under applicable allocation principles) at least half of their time and effort (during the Federal fiscal year for which recovery costs are certified) to recovery efforts or to other similar collection or reimbursement efforts.

Preceding fiscal year means, for purposes of 34 U.S.C. 20102(a), the federal fiscal year two years prior to the Federal fiscal year in which the grant award is made.

Property damage means property loss and damage to material goods, which includes destruction of material goods or loss of money, stocks, bonds, etc., but, pursuant to 34 U.S.C. 20102(d)(1) (which expressly provides that property damage “does not include damage to prosthetic devices, eyeglasses, other corrective lenses, or dental devices”), does not include any loss or destruction of personal property whose acquisition or purchase would qualify as a “medical expense” under this subpart.

Recovery costs has the meaning set forth in 34 U.S.C. 20102(d)(5), which defines such costs as “expenses for personnel directly involved in the recovery efforts to obtain collections from restitution or from subrogation for payment under a civil lawsuit.”

Services rendered in accordance with a method of healing include, but are not limited to, assessment, diagnosis, comprehensive treatment, long-term care, treatment of underlying conditions that affect the treatment of the victimization injury, medication (prescription, non-prescription, prophylactic), and forensic sexual assault examinations and related expenses.

State has the meaning set forth in 34 U.S.C. 20102(d), which “includes the District of Columbia, the Commonwealth of Puerto Rico, the United States Virgin Islands, and any other possession or territory of the United States [e.g., Guam].” References to “States” generally should be understood to refer to States' crime victim compensation program administering agencies (commonly referred to as “State administering agencies”), unless the context should indicate otherwise.

Supplant means to reduce State funds deliberately, because of the existence of Federal funds. See section 94.213 of this subpart for considerations specific to this program.

Survivor of a victim means a person with a sufficiently close relationship (as determined by the State compensation program) to a victim to be considered for compensation in circumstances where the victim has died.

Training costs include, but are not limited to, training of program personnel on functions necessary for the crime victim compensation program; and training of persons and entities outside of the victim compensation program (e.g., victim services providers, criminal justice personnel, and health, mental health, and social services providers) about the crime victim compensation program.

§ 94.206 [RESERVED]

§ 94.207 [RESERVED]

§ 94.208 [RESERVED]

§ 94.209 [RESERVED]

§ 94.210 [RESERVED]

Program Requirements

§ 94.211 Eligibility of the Compensation Program.

The Federal grant-award recipient must meet the eligibility criteria in 34 U.S.C. 20102(b), as implemented by this subpart. A compensation program is entitled to a grant award under this subpart only after it has awarded benefits that can be matched under VOCA. VOCA funding may not be used as start-up funds for a new State compensation program. If a State chooses to administer its compensation program in a decentralized fashion, the State remains accountable to the Federal awarding agency for expenditure of these funds.

§ 94.212 Payments and Certification of Payments.

(a) Use of award funds for payments. A State may use VOCA compensation grant funds to make compensation payments for mandatorily compensable expenses and optionally compensable expenses.

(b) Certifiable payments. A State may certify compensation payments for—

(1) mandatorily compensable expenses; and

(2) optionally compensable expenses, except that property damage expenses may be certified only if they are certifiable property damage expenses.

(c) Certification of payment for dental services and devices. A State may, pursuant to State policy, establish a presumption that the expenses of dental services and devices under a State-defined threshold are attributable to a physical injury resulting from a compensable crime, and make payments from VOCA funds (and certify payments) for such expenses, pursuant to such presumption.

§ 94.213 Promotion of Victim Cooperation with Reasonable Requests of Law Enforcement.

(a) In general. As of the effective date of this rule, 34 U.S.C. 20102(b)(2)) requires crime victim compensation programs to “promote[ ] victim cooperation with the reasonable requests of law enforcement authorities, except if a program determines that such cooperation may be impacted due to a victim's age, physical condition, psychological State, cultural or linguistic barriers, or any other health or safety concern that jeopardizes the victim's wellbeing.”

(b) Policy on exceptions required if victim bears evidentiary burden. For purposes of meeting the statutory eligibility threshold for promoting victim cooperation with the reasonable requests of law enforcement—

(1) A State is not required to document, or require a victim to submit documentation of, a crime report, evidence of a medical evidentiary examination, or any other similar information.

(2) A State may not require a victim to demonstrate cooperation with law enforcement unless it has a written policy in effect that addresses its application of the exceptions to promotion of victim cooperation that are set out in 34 U.S.C. 20102(b) (e.g., specifying when it will provide alternative methods for victims to demonstrate cooperation or will dispense with the requirement).

(c) Demonstrating compliance. A State may show that it promotes cooperation with the reasonable requests of law enforcement authorities by using any reasonable means the State may determine to be appropriate to promote such cooperation, including any of the following:

(1) Having a policy of encouraging victims to report the crime to law enforcement or other appropriate entity (e.g., protective services, university security), subject to the victim-wellbeing exceptions set forth in paragraph (a) of this section;

(2) Providing victims with information or services (or referring such victims to the same) to assist them in reporting to law enforcement or other appropriate entity;

(3) Accepting a victim's description of efforts to notify or cooperate with law enforcement or other appropriate entity (where evidence of victim's cooperation with law enforcement is a State program requirement); or

(4) Accepting a crime report to law enforcement or other appropriate entity, or documentation of an evidentiary or non-evidentiary medical examination indicating the occurrence of a crime (where evidence of victim cooperation with law enforcement is a State program requirement).

§ 94.214 Nonsupplantation of State Funds.

(a) In general. States must make the certifications under 34 U.S.C. 20102(b)(3) (regarding not supplanting State funds for compensation) and 20110(h) (regarding not supplanting State administrative funds for compensation), as a condition of accepting a VOCA Compensation grant.

(b) Supplanting considerations. Expenditure of VOCA funds received based on State certified compensation payments from previous years does not constitute supplantation. A decrease in State commitment to the compensation program (e.g., a decrease in the number of State-supported staff positions) is not supplanting, where the decrease is part of broad or across-the-board budget restrictions at the State level or is a return to a prior baseline level after temporary increase. States must maintain documentation on the overall administrative commitment of the State prior to their use of VOCA administrative grant funds.

§ 94.215 Engagement with American Indian and Alaskan Native Tribes.

A State with one federally recognized American Indian and Alaskan Native tribe (or more) within its geographical boundaries must have a written policy in effect regarding how the State will engage with the same for purposes of compensation under this subpart. Such policy must (at a minimum) set forth a plan for conducting outreach efforts to inform tribal communities about the compensation program and for providing compensation for culturally appropriate expenses and services.

§ 94.216 [RESERVED]

§ 94.217 [RESERVED]

§ 94.218 [RESERVED]

§ 94.219 [RESERVED]

§ 94.220 [RESERVED]

Victim Eligibility Considerations

§ 94.221 Residency and Place of Crime.

(a) Nonresidents. A State must provide compensation to nonresidents of the State, as provided in 34 U.S.C. 20102(b)(4).

(b) Residents victimized outside of the State. A State must provide compensation to its residents who are victims of crimes occurring outside of the State, as provided in 34 U.S.C. 20102(b)(6). A State may, but is not required to, compensate its residents who are victims of international terrorism occurring outside of the United States (see 18 U.S.C. 2331(1)).

(c) Federal immigration status. Nothing in this subpart shall be understood to require or authorize a State to consider the Federal immigration status of a victim (or of a survivor of a victim) in determining eligibility for crime victim compensation.

§ 94.222 Criminal History and Delinquent Payments.

(a) Criminal History. A State may not deny compensation because of a victim's or survivor's incarceration, probation, or parole status, prior criminal history, or sentence.

(b) Delinquent Fines, Penalties, or Restitution. A State may deny compensation to the extent that a victim is delinquent in paying a criminal fine, penalty, or restitution.

(c) Federal Delinquent Fines, Penalties, or Restitution. As of the effective date of this rule, States are not required to check whether a compensation recipient is delinquent in paying a Federal criminal fine, -penalty, or -restitution before making a compensation payment. See Public Law 104-132, title II, sec. 234(a)(2), April 24, 1996, 110 Stat. 1245 (delaying implementation of the requirement in 34 U.S.C. 20102(b)(8)).

§ 94.223 Contributory Conduct.

(a) In general. A State may not deny or reduce claims on the basis of a victim's alleged contributory conduct, except pursuant to paragraph (b).

(b) Exceptional cases. In exceptional and specific cases, a State may deny or reduce claims on the basis of a victim's alleged contributory conduct, provided that—

(1) The victim's alleged contributory conduct was not the result of criminal force, fraud, or coercion (e.g., human trafficking); and

(2) The State has a publicly available written policy in effect that (at a minimum) sets forth the standard of review, the review process, and an appeal process for any such denials or reductions.

§ 94.224 Familial Relationship or Shared Residence with Offender (Unjust Enrichment).

(a) In general. States must comply with the limitation on the denial of compensation based on family relationship or sharing of a residence with the offender, set forth in 34 U.S.C. 20102(b)(7) (limiting such denials except pursuant to State rules to prevent unjust enrichment of the offender).

(b) Unjust enrichment. A State may not deny compensation based on a victim's familial relationship or shared residence with an offender unless it has, in effect, a law, rule, or written policy that addresses unjust enrichment. Such law, rule, or written policy may not prohibit compensation where there is only de minimis benefit to the offender, and it may provide exceptions for the wellbeing of the victim (e.g., by allowing compensation when collateral sources of payment from an offender are not reasonably available, or where the State has the option of seeking subrogation from the offender).

§ 94.225 Victim Application Provisions.

(a) Waiver of filing deadline for delayed testing of, or DNA profile matching from, certain sexual offense evidence. States must provide a waiver for application filing deadlines, pursuant to the requirements of 34 U.S.C. 20102(a)(9).

(b) Notary requirements prohibited. No State may require applicants to provide a notarized signature to complete the State's initial application for compensation. States are not prohibited from requiring notarized signatures for specific application documents, where appropriate.

§ 94.226 [RESERVED]

§ 94.227 [RESERVED]

§ 94.228 [RESERVED]

§ 94.229 [RESERVED]

§ 94.230 [RESERVED]

Relationship to Collateral Sources of Payment

§ 94.231 Coordination.

In order to promote mutual understanding of eligibility requirements, application processing, timelines, and other program specific requirements, States must coordinate with, and provide appropriate referrals to, other programs that provide financial assistance and services to crime victims, whether funded by Federal, State or local Governments, to facilitate victim access to resources. Examples of such programs include workers' compensation, vocational rehabilitation, and VOCA victim assistance subgrantee programs.

§ 94.232 Means Testing.

OVC understands the provision at 34 U.S.C. 20102(c) (generally prohibiting other programs from counting victim compensation payments for purposes of means testing, except for the 9/11 Victim Compensation Fund), in its reference to “any amount of crime victim compensation that the applicant receives through a crime victim compensation program under this section” to refer to both State and federally funded victim compensation payments.

§ 94.233 Payor of Last Resort.

(a) Exceptions. A State may make exceptions to the payor of last resort requirement in 34 U.S.C. 20102(e) (which requires the State compensation program (whether using VOCA funds or State funds for payments) to be the payor of last resort with regard to most Federal or federally financed programs) for victim needs that would not adequately be met by collateral sources that normally are required to pay first (e.g., collateral source not reasonably available due to delay, coverage, or other reasons).

(b) No requirement for victims to apply for or use collateral sources. States are not required to have victims apply for, or use, other Federal or federally funded programs, or private insurance, private donations, or crowdfunding, prior to making a compensation payment.

§ 94.234 Private Donations and Crowdfunding.

States may not consider private donations (e.g., crowdfunding) as collateral sources for mandatorily or optionally compensable expenses, except under extenuating circumstances (e.g., large incidents, mass violence, high-profile incidents), as determined by the State.

§ 94.235 [RESERVED]

§ 94.236 [RESERVED]

§ 94.237 [RESERVED]

§ 94.238 [RESERVED]

§ 94.239 [RESERVED]

§ 94.240 [RESERVED]

Program Administration

§ 94.241 Grant Award Period of Performance.

Victim compensation grants are awarded annually and are available during the timeframe set forth in 34 U.S.C. 20101(e) (the Federal fiscal year of award plus three fiscal years). A States may use grant award funds to pay compensation claims paid during the grant award period of performance (including reimbursement for claims paid during that period but prior to award), unless otherwise restricted by the terms of the award. OVC will consider period of performance extension requests on a case-by-case basis (approval of a request is subject to the discretion of the Assistant Attorney General for OJP), pursuant to request procedures set forth in the DOJ Grants Financial Guide, or procedures otherwise specified by OVC from time-to-time.

§ 94.242 Application for Annual Grant.

OVC issues an annual notice of funding opportunity (solicitation of application) to States that describes how to apply for the grant. The application must be submitted in the form and manner, and by the deadlines, prescribed by OVC. OVC may deny a non-compliant application.

§ 94.243 Process for State Certification of Compensation Payments.

(a) Manner of certification. A State shall provide to OVC the information required by OVC and shall do so in such form and manner as OVC may specify from time-to-time, to run the allocation formula in 34 U.S.C. 20102(a). OVC, as of the effective date of this rule, requires this information to be reported annually on a Federal fiscal year basis via its Victim Compensation Certification form.

(b) State policy for certification. A State must have a written policy regarding completion and submission of the Victim Compensation Certification form. Such policy must (at a minimum) set forth the steps to complete the form, the data sources the State uses to populate the form, and the review process for approval of the form.

§ 94.244 Recoupment of Compensation Payment Recovery Costs.

States may report certain recovery costs to OVC, as provided in the Victim Compensation Certification form, to be treated as (and added to) the amount of certified compensation payments for purposes of calculating the State's VOCA Victim Compensation grant.

§ 94.245 Incorrect Certifications.

(a) Over-certification. If a State over-certifies compensations payments to crime victims (resulting in a grant amount that is more than the statutory allocation), the necessary steps will be taken by OVC to recover funds that were awarded in error. OVC (in its discretion) may offset the excess amount against prior or subsequent year under-certifications, or against future awards, or implement other remedies as appropriate.

(b) Under-certification. If a State under-certifies compensation payments to crime victims (resulting in a grant amount that is less than the statutory allocation), OVC ordinarily will not award supplemental funds to the State to correct the State's error, as this typically would require recalculating allocations to every State VOCA compensation and assistance program and would be administratively burdensome. OVC (in its discretion) may offset the lower amount against prior or subsequent year over-certifications, add it to future awards, or implement other remedies as appropriate.

§ 94.246 Sources of Payments to Crime Victims.

A State is not required to identify the source of individual payments to crime victims as either Federal or State funds, or to track restitution recoveries or other refunds to Federal or State funds paid out to the victim. States are required (at a minimum) to allocate aggregate payment amounts to Federal or State funding for annual reporting.

§ 94.247 Reporting.

A State shall submit such reports for grants awarded under this program as OVC may require from time-to-time.

§ 94.248 Access to Records.

A State shall, upon request, and consistent with 2 CFR 200.337 (protecting true names of victims), provide OJP (and other Federal agencies responsible for grant monitoring, audit, or investigation) with access to all records related to the use of grant awards under this subpart.

§ 94.249 Discrimination Prohibited.

(a) DOJ rules apply. The VOCA non-discrimination provisions set out at 34 U.S.C. 20110(e) are implemented for grant awards under this subpart in accordance with 28 CFR part 42.

(b) OCR guidance. In complying with VOCA, at 34 U.S.C. 20110(e), as implemented by 28 CFR part 42, and other applicable civil rights requirements, SAAs shall comply with such guidance as may be issued from time-to-time by the OJP Office for Civil Rights.

(c) Language access. In connection with grants awarded under this subpart, States shall comply with pertinent Federal civil-rights requirements to provide language access for limited English proficient persons.

§ 94.250 Non-disclosure of Confidential or Private Information.

A State shall comply with the requirements of section 94.115 of subpart B of this Part, applied mutatis mutandis to grants awarded under this subpart.

Administrative and Training Costs

§ 94.251 Administrative and Training Cost Allowance.

(a) Notification. Within the limit provided in 34 U.S.C. 20102(a)(4), a State may use VOCA Compensation grant funds for training purposes or administration of the State crime victim compensation program but must notify OVC of its decision to do so, either at the time of application for the VOCA grant or within thirty days of such decision. If VOCA funding will be used for administration, the State shall follow the rules in sec. 94.213 of this subpart, and submit the certification required by 34 U.S.C. 20110(h), regarding supplantation.

(b) Records. States shall maintain sufficient records to substantiate expenditure of VOCA funds for training or administration and are required (in performance reporting) to describe the use and effect of these funds on the State victim compensation program.

§ 94.252 Allowable Administrative and Training Costs.

States may use the VOCA Compensation administrative and training cost allocation for a broad variety of costs reasonably necessary and allocable to administrative and training needs of the State crime victim compensation program. The State crime victim compensation program encompasses both State-funded and federally funded compensation payments and activities under that program. All charges to the VOCA grant for administrative and training costs must be reasonably allocable to the period of performance under the grant award to which they are charged and in proportion to their benefit to the State victim compensation program under the generally applicable government-wide allocation rules in 2 CFR part 200. VOCA funds used for training may be used only for training activities that occur within the award period of performance for the grant award to which they are charged, and all funds for training charged to that grant award must be obligated prior to the end of that period of performance.

Dated: January 31, 2024.
Amy Solomon,
Assistant Attorney General, Office of Justice Programs.

[FR Doc. 2024-02230 Filed 2-2-24; 8:45 am]

BILLING CODE 4410-18-P